Memorandum of March 16, 2012

Delegation of Reporting Functions Specified in Section 1045 of the National Defense Authorization Act for Fiscal Year 2012, and Condition 9 of the Resolution of Advice and Consent to Ratification of the Treaty Between the United States of America and the Russian Federation on the Measures for the Further Reduction and Limitation of Strategic Offensive Arms (the “New Start Treaty”)

Memorandum for the Secretary of State[,] the Secretary of Defense[, and] the Secretary of Energy

By the authority vested in me as President by the Constitution and the laws of the United States of America, including section 301 of title 3 of the United States Code, I hereby delegate to the Secretaries of Defense and Energy the reporting functions conferred upon the President by section 1045 of the National Defense Authorization Act for Fiscal Year 2012 (Public Law 112-81), and by section (a)(9)(B) of the Resolution of Advice and Consent to Ratification of the New START Treaty. Subsection (a)(9)(B)(iv) of the Resolution shall be fulfilled in coordination with the Secretary of State.

The Secretary of Defense is authorized and directed to publish this memorandum in the Federal Register.

THE WHITE HOUSE,

Washington, March 16, 2012

[FR Doc. 2012-6993

Filed 3-20-12; 11:15 am]

Billing code 5000-04-P